DEPARTMENT OF LABOR

Employment and Training Administration

[TA-W-71,622]

Vision Custom Tooling, Inc., Birdsboro, PA; Notice of Termination of Investigation

Pursuant to Section 223 of the Trade Act of 1974, as amended, an investigation was initiated in response to a petition filed on July 9, 2009 on behalf of workers of Vision Custom Tooling, Inc., Birdsboro, Pennsylvania.

The applicable regulation states that a group of workers may file a petition for a certification of eligibility to apply for Trade Adjustment Assistance (TAA). The regulation defines a group as “three or more workers in a firm or an appropriate subdivision thereof.”

On the TAA petition, the petitioner placed a line through “three” and placed the Arabic number “one” aside the strike-through, indicating that the petition was filed by one worker and not three workers.

The petition regarding the investigation has been deemed invalid. Consequently, the investigation has been terminated.

Signed at Washington, DC this 10th day of March, 2010.
Del Min Amy Chen,
Certifying Officer, Division of Trade Adjustment Assistance.

[FR Doc. 2010-6921 Filed 3-29-10; 8:45 am]

BILLING CODE 4510-FN-P